DEPARTMENT OF JUSTICE

Office of Justice Programs

[OJP (OJP) Docket No. 1491]

Hearing of the Review Panel on Prison Rape

AGENCY: Office of Justice Programs, Justice.

ACTION: Notice of hearing.

SUMMARY: The Office of Justice Programs (OJP) announces that the Review Panel on Prison Rape (Panel) will hold a hearing in Culpeper, Virginia on November 14, 2008. The hearing time and location are noted below.The purpose of the hearing is to assist the Bureau of Justice Statistics (BJS) in identifying common characteristics of victims and perpetrators of rape in county jails, and the characteristics of U.S. jails with the highest and lowest incidence of rape, based on an anonymous survey by BJS of inmates in a representative sample of jails. On June 25, 2008, BJS issued the report Sexual Victimization in Local Jails Reported by Inmates, 2007. The report provides a listing of local jails grouped according to the prevalence of reported sexual victimization, and it formed the basis of the Panel's decision about which facilities would be the subject of testimony.

DATES: Friday, November 14, 2008, 11 a.m. to 5:30 p.m. (Culpeper County, Virginia Jail—facility with a low prevalence of reported sexual victimization).

ADDRESSES: The hearing will take place at the County Administration Building, 302 North Main Street, Culpeper, Virginia 22701.

FOR FURTHER INFORMATION CONTACT: Christopher Zubowicz, Designated Federal Official, OJP, christopher.zubowicz@usdoj.gov, (202) 307-0690. (Note: This is not a toll-free number.)

SUPPLEMENTARY INFORMATION: The Panel, which was established pursuant to the Prison Rape Elimination Act of 2003, Public Law 108-79, 117 Stat. 972 (codified as amended at 42 U.S.C. 15601-15609 (2006)), will hold its next hearing to carry out the review functions specified at 42 U.S.C. 15603(b)(3)(A). Testimony from the hearing will assist the Panel in carrying out its statutory obligations and in identifying best practices for deterring rape in county jails. Space is limited at the hearing location. Special needs requests should be made to Christopher Zubowicz, Designated Federal Official, OJP, christopher.zubowicz@usdoj.gov or (202) 307-0690, at least one week before the hearing.

Michael Alston,
Office of Justice Programs.

[FR Doc. E8-26064 Filed 10-31-08; 8:45 am]

BILLING CODE 4410-18-P